ENVIRONMENTAL PROTECTION AGENCY

40 CFR Part 52

[EPA-R03-OAR-2015-0166; FRL-9926-16-Region 3]

Approval and Promulgation of Air Quality Implementation Plans; Pennsylvania; Adoption of Control Techniques Guidelines for Offset Lithographic Printing and Letterpress Printing; Flexible Package Printing; and Adhesives, Sealants, Primers, and Solvents

AGENCY: Environmental Protection Agency (EPA).

ACTION: Proposed rule.

SUMMARY: The Environmental Protection Agency (EPA) is proposing to approve revisions to the Pennsylvania State Implementation Plan (SIP) submitted by the Commonwealth of Pennsylvania. These revisions pertain to control of volatile organic compound (VOC) emissions from offset lithographic printing and letterpress printing, flexible package printing, and adhesives, sealants, primers, and solvents. These revisions also meet the requirement to adopt Reasonably Available Control Technology (RACT) for sources covered by EPA's Control Technique Guidelines (CTG) recommendations for the following categories: Offset lithographic printing and letterpress printing, flexible package printing, and adhesives, sealants, primers, and solvents. This action is being taken under the Clean Air Act (CAA).

DATES: Written comments must be received on or before May 13, 2015.

ADDRESSES: Submit your comments, identified by Docket ID Number EPA-R03-OAR-2015-0166 by one of the following methods:

A. www.regulations.gov. Follow the on-line instructions for submitting comments.

B. Email: powers.marilyn@epa.gov.

C. Mail: EPA-R03-OAR-2015-0166, Marilyn Powers, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2015-0166. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Ellen Schmitt, (215) 814-5787, or by email at schmitt.ellen@epa.gov.

SUPPLEMENTARY INFORMATION:

I. Background

Section 172(c)(1) of the CAA provides that SIPs for nonattainment areas must include reasonably available control measures (RACM), including RACT, for sources of emissions. Section 182(b)(2)(A) provides that for certain nonattainment areas, states must revise their SIP to include RACT for sources of volatile organic compound (VOC) emissions covered by a CTG document issued after November 15, 1990 and prior to the area's date of attainment. EPA defines RACT as “the lowest emission limitation that a particular source is capable of meeting by the application of control technology that is reasonably available considering technological and economic feasibility.” 44 FR 53761 (September 17, 1979).

CTGs are documents issued by EPA intended to provide state and local air pollution control authorities information that should assist them in determining RACT for VOC emissions from various sources. Section 183(e)(3)(c) provides that EPA may issue a CTG in lieu of a national regulation as RACT for a product category where EPA determines that the CTG will be substantially as effective as regulations in reducing emissions of VOC in ozone nonattainment areas. The recommendations in the CTG are based upon available data and information and may not apply to a particular situation based upon the circumstances. States can follow the CTG and adopt state regulations to implement the recommendations contained therein, or they can adopt alternative approaches. In either case, states must submit their RACT rules to EPA for review and approval as part of the SIP process.

In 1993, EPA published a draft CTG for offset lithographic printing. 58 FR 59261 (November 8, 1993). After reviewing comments on the draft CTG and soliciting additional information to help clarify those comments, EPA published an alternative control techniques (ACT) document in June 1994 that provided supplemental information for states to use in developing rules based on RACT for offset lithographic printing. In December 1978, EPA published a CTG for graphic arts (rotogravure printing and flexographic printing) that included flexible package printing (Publication No. EPA-450/2-78-033; December 1978). In 1994, EPA developed an ACT document for industrial cleaning solvents (Publication No. EPA-453/R-94-015; February 1994). After reviewing the 1978/1993/1994 CTGs and ACTs for these industries, conducting a review of currently existing state and local VOC emission reduction approaches for these industries, and taking into account any information that has become available since then, EPA developed new CTGs entitled Control Techniques Guidelines for Offset Lithographic and Letterpress Printing (Publication No. EPA 453/R-06-002; September 2006); Control Techniques Guidelines for Flexible Package Printing (Publication No. EPA 453/R-06-003; September 2006); Control Techniques Guidelines for Industrial Cleaning Solvents (Publication No. EPA 453/R-06-001; September 2006). The CTG recommendations may not apply to a particular situation based upon the circumstances of a specific source. Regardless of whether a state chooses to implement the recommendations contained within the CTGs through state rules, or to issue state rules that adopt different approaches for RACT for VOCs, states must submit their RACT rules to EPA for review and approval as part of the SIP process.

II. Summary of SIP Revision and EPA Analysis

On August 27, 2014, the Commonwealth of Pennsylvania through the Pennsylvania Department of Environmental Protection (PADEP) submitted a SIP revision to EPA in order to add regulations to the Pennsylvania SIP which essentially adopt EPA CTGs for offset lithographic and letterpress printing, flexible package printing, and adhesives, sealants, primers, and solvents. These regulations are contained in Title 25 of the Pennsylvania Code (Pa Code) Chapters 129 and 130. The pertinent regulations establish: (1) The applicability of the regulations to facilities for offset lithographic printing and letterpress printing, flexible package printing, and adhesives, sealants, primers, and solvents; (2) certain exemptions; (3) recordkeeping and work practice requirements; and (4) emission limitations.

EPA's review of the new and revised regulations submitted by PADEP indicates that the submitted revisions of 25 Pa Code 121.1, 129.51, 129.67, 129.67a, and 129.67b meet the requirements to adopt RACT for sources located in Pennsylvania covered by EPA's CTG recommendations for control of VOC emissions for the following categories: Offset lithographic printing, letterpress printing, and flexible package printing. In addition, the submitted revisions to 25 Pa Code 129.77 and 130.703 continue to meet the requirements to adopt RACT for adhesives and solvents as approved on September 26, 2012. See 77 FR 59090. EPA finds the Pennsylvania regulations which adopt the equivalent of the specific EPA CTG recommendations meet CAA requirements for RACT in sections 172 and 182 of the CAA. More detailed information on these provisions as well as a detailed summary of EPA's review and rationale for proposing to approve this SIP revision can be found in the Technical Support Document (TSD) for this action which is available on line at www.regulations.gov, Docket number EPA-R03-OAR-2015-0166. EPA is soliciting public comments on the issues discussed in this document. These comments will be considered before taking final action.

III. Proposed Action

EPA is proposing to approve the August 27, 2014 Pennsylvania SIP revision adding new regulations 25 Pa Code 129.67a and 129.67b and revising regulations 25 Pa Code 121.1, 129.51, 129.67, 129.77, and 130.703 as the SIP revision meets CAA requirements for SIPs in sections 110, 172 and 182.

IV. Incorporation by Reference

In this rule the EPA is proposing to include, in a final EPA rule, regulatory text that includes incorporation by reference. In accordance with requirements of 1 CFR 51.5, the EPA is proposing to incorporate by reference the PADEP rules regarding control of VOC emissions from offset lithographic printing, letterpress printing, flexible package printing, and adhesives, sealants, primers, and solvents as described in section II of this proposed action. The EPA has made, and will continue to make, these documents generally available electronically through www.regulations.gov and/or in hard copy at the appropriate EPA office (see the ADDRESSES section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this proposed rule pertaining to Pennsylvania's adoption of CTG recommendations for offset lithographic printing and letterpress printing, flexible package printing, and adhesives, sealants, primers, and solvents, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Ozone, Reporting and recordkeeping requirements, Volatile organic compounds.

Authority: 42 U.S.C. 7401 et seq.

Dated: March 31, 2015.
William C. Early,
Acting Regional Administrator, Region III.

[FR Doc. 2015-08462 Filed 4-10-15; 8:45 am]

BILLING CODE 6560-50-P